LEGAL SERVICES CORPORATION

Sunshine Act Meeting: Board of Directors and Its Six Committees

AGENCY: Legal Services Corporation.

ACTION: Change notice.

SUMMARY: On October 11, 2016, the Legal Services Corporation (LSC) published a notice in the Federal Register (81 FR 70136) titled “Board of Directors and its Six Committees will meet on October 16-18, 2016, Mountain Standard Time (MST)”. The Board of Directors (Closed Session) is scheduled to meet on October 18, 2016, to approved the Board of Directors Closed Session minutes from July 17, 2016. A correction to change the date on item #2 on the Board of Directors Closed Session Agenda to July 19, 2016; all other items remain consecutively the same. The Federal Register Notice Foot Note stating all meeting times are Eastern Standard Time. A correction to change all meeting times to Mountain Standard Time.

DATES: This change is effective October 11, 2016.

FOR FURTHER INFORMATION CONTACT: Katherine Ward, Executive Assistant to the Vice President for Legal Affairs and General Counsel, Legal Services Corporation, 3333 K Street NW., Washington, DC 20007; (202) 295-1500; kward@lsc.gov.

SUPPLEMENTARY INFORMATION: This document changes the notice by revising the Board of Directors Closed Session Agenda by changing the date of the draft minutes to July 19, 2016.

This document changes the Federal Register Notice Foot Note, changing all meeting times to Mountain Standard Time (MST).

Changes in the Meeting: Item #2 of the Board of Directors Closed Session Agenda and the Foot Note in the Federal Register Notice.

—Item #2 of the Agenda: Approval of minutes of the Board's Closed Session meeting of July 19, 2016

and

—Foot Note in the Federal Register Notice stating all meeting start times are Mountain Standard Time (MST).

Dated: October 11, 2016.
Katherine Ward,
Executive Assistant to the Vice President for Legal Affairs and General Counsel.

[FR Doc. 2016-24935 Filed 10-11-16; 4:15 pm]

BILLING CODE 7050-01-P